DEPARTMENT OF EDUCATION

Notice of Proposed Information Collection Requests; Office of Elementary and Secondary Education; Early Reading First: Grant Performance Report

SUMMARY: Each Early Reading First grantee is required to forward an annual performance report or final report to the Secretary describing the annual progress made toward's the project's goals.

DATES: Interested persons are invited to submit comments on or before November 27, 2012.

ADDRESSES: Written comments regarding burden and/or the collection activity requirements should be electronically mailed to ICDocketMgr@ed.gov or mailed to U.S. Department of Education, 400 Maryland Avenue SW., LBJ, Washington, DC 20202-4537. Copies of the proposed information collection request may be accessed from http://edicsweb.ed.gov, by selecting the “Browse Pending Collections” link and by clicking on link number 04940. When you access the information collection, click on “Download Attachments” to view. Written requests for information should be addressed to U.S. Department of Education, 400 Maryland Avenue SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

SUPPLEMENTARY INFORMATION: Section 3506 of the Paperwork Reduction Act of 1995 (44 U.S.C. chapter 35) requires that Federal agencies provide interested parties an early opportunity to comment on information collection requests. The Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Early Reading First: Grant Performance Report.

OMB Control Number: 1810-0696.

Type of Review: Extension.

Total Estimated Number of Annual Responses: 60.

Total Estimated Number of Annual Burden Hours: 1,020.

Abstract: In accordance with the Elementary and Secondary Education Act of 1965, as amended, Title I, Part B, Subpart 2, Early Reading First, section 1225 states that each eligible applicant receiving a grant under this subpart shall report annually to the Secretary regarding the eligible applicant's progress in addressing the purposes of this subpart. Each report shall include, at a minimum, a description of: (1) The research-based instruction, materials, and activities being used in the programs funded under the grant; and (2) the type of ongoing professional development to staff.

Dated: September 24, 2012.
Darrin A. King,
Director, Information Collection Clearance Division, Privacy, Information and Records Management Services, Office of Management.

[FR Doc. 2012-23849 Filed 9-27-12; 8:45 am]

BILLING CODE 4000-01-P